Title 3—

The President

Proclamation 7587 of August 30, 2002

National Ovarian Cancer Awareness Month, 2002

By the President of the United States of America

A Proclamation

During National Ovarian Cancer Awareness Month, Americans renew their commitment to learning more about the causes of this deadly disease, so that we can detect it early and treat it effectively.

Ovarian cancer continues to cause more deaths than any other cancer of the female reproductive system. It is estimated that this year alone, more than 23,000 women in the United States will be diagnosed with ovarian cancer, and that almost 14,000 women will die from this disease. In cases where ovarian cancer is found and treated in its earliest stages, the 5-year survival rate is 95 percent. However, most women who suffer from this cancer are not diagnosed until it has become more advanced, because their symptoms may be easily confused with other diseases. Since early detection and treatment can often mean the difference between life and death, developing an effective screening test is a great priority.

Scientists have identified specific substances in the blood that may help indicate whether a woman has ovarian cancer before she shows any symptoms. Additionally, researchers at the National Cancer Institute and the Food and Drug Administration have been working to develop a new type of blood test that may be able to diagnose this disease, and eventually help save the lives of millions of women. By analyzing protein patterns in a single drop of blood, this test was able to recognize ovarian cancer in both its early and late stages. I join thousands of American women and their families in hoping that this promising research will help us in overcoming this terrible disease.

By increasing awareness of ovarian cancer and its causes, we can better prepare women who face the threat of this illness. Researchers have learned that age, alterations in genes, and certain hormonal and reproductive factors are linked to ovarian cancer risk. Women and their doctors should weigh all the risks and benefits of different therapies and make informed choices about health care.

I commend the strength and courage of the women who persevere in the face of this serious illness, and I encourage our scientists and researchers to redouble their efforts to find more effective prevention, diagnostic, and treatment strategies to combat ovarian cancer. Additionally, I urge those who suffer from this cancer, and those who may be at risk, to talk with their healthcare providers about participating in clinical trials for new medical therapies designed to combat ovarian cancer. By taking part in these clinical trials, you can make important contributions to the knowledge of this disease and benefit from cutting edge medical research. As we increase awareness of ovarian cancer and advance in our research, we can help bring hope to our citizens and draw closer to winning the war on cancer.

NOW, THEREFORE, I, GEORGE W. BUSH, President of the United States of America, by virtue of the authority vested in me by the Constitution and laws of the United States, do hereby proclaim September 2002 as National Ovarian Cancer Awareness Month. I call upon the people of the United States to observe this month with appropriate programs and activities.

IN WITNESS WHEREOF, I have hereunto set my hand this thirtieth day of August, in the year of our Lord two thousand two, and of the Independence of the United States of America the two hundred and twenty-seventh.

B

[FR Doc. 02-22748

Filed 9-4-02; 8:45 am]

Billing code 3195-01-P